DEPARTMENT OF LABOR

Employment and Training Administration

[TA-W-40,147 and TA-W-40,147A]

Guilford Mills, Inc., Cobleskill, New York and Guilford Mills, Inc., Sales Division, New York, New York; Notice of Revised Determination on Reconsideration

By letter of January 16, 2002, the company requested administrative reconsideration regarding the Department's Negative Determination Regarding Eligibility to Apply for Worker Adjustment Assistance, applicable to the workers of the subject firm.

The initial investigation resulted in a negative determination issued on December 31, 2001, based on the finding that imports of lace and fabric did not contribute importantly to worker separations at the subject plant. The denial notice was published in the Federal Register on January 11, 2002 (67 FR 1510).

To support the request for reconsideration, the company requested that the Department of Labor survey an additional list of major lace customers.

Upon examination of the customer list it became evident that a major customer affiliated with the subject firm was certified for TAA on December 31, 2001 (Guilford Mills, Inc., Herkimer, New York, TA-W-38,749). A major portion of the subject plant's lace was shipped to that facility. That customer incorporated the lace into window and bedspread products. The Herkimer facility was certified for TAA on the basis of increased imports of curtain and bedspreads. The Sales Division workers, located in New York, New York were engaged in the sales of the lace produced by the subject plant. Since a meaningful portion of production and sales at the respective subject firm locations were in direct support of the affiliated certified facility, the subject facilities meet the TAA criteria.

Conclusion

After careful review of the additional facts obtained on reconsideration, the company imports of articles like or directly competitive with an affiliated facility under an existing TAA certification in which Guilford Mills, Inc., Cobleskill, New York and Guilford Mills, Inc., Sales Division, New York, New York are in direct support of contributed importantly to the declines in sales or production and to the total or partial separation of workers at the subject firm. In accordance with the provisions of the Act, I make the following certification:

“All workers of Guilford Mills, Inc., Cobleskill, New York, (TA-W-40,147) and Guilford Mills, Inc., Sales Division, New York, New York (TA-W-40,147A) who became totally or partially separated from employment on or after September 21, 2000 through two years from the date of this certification, are eligible to apply for adjustment assistance under Section 223 of the Trade Act of 1974.”

Signed in Washington, DC this 9th day of May, 2002.
Edward A. Tomchick,
Director, Division of Trade Adjustment Assistance.

[FR Doc. 02-13935 Filed 6-3-02; 8:45 am]

BILLING CODE 4510-30-P